DEPARTMENT OF HEALTH AND HUMAN SERVICES

Administration for Children and Families

Submission for OMB Review; Comment Request

Title: Program Narrative Objective Work Plan (OWP).

OMB No.: 0980-0204.

Description: Program Narrative (OWP) information is collected as part of a competitive, discretionary grant application submitted to the Administration for Native Americans (ANA). Included with the OWP are standard, government-wide Federal assistance application forms (e.g., SF-424, 424A, 424B, Non-Constructions Assurances, and various OMB certifications). The OWP provides information used by legislatively mandated project evaluation panels to compete and rank applications. ANA uses the OWP information to perform legislatively mandated project evaluations supporting the basis for recommendations to award or not award ANA grants. After funding, the OWP is used to reflect funded objectives and to administer and monitor ANA grants.

OWP information presents the grant applicants' locally-determined project objectives and plan to achieve those objectives. Economic development projects may attach a business plan. OWP information is presented as narrative and transcribed onto a government form titled, “ANA Objective Work Plan”. In the past, ANA used two forms to collect the program narrative; i.e., “Program Narrative Objective Work Plan” and “Program Narrative Approach.” The new, single form combines the two old forms and eliminates some information items.

Instructions for completing the OWP are provided in the “Administration for Narrative Americans Application Packet for Financial Assistance.” Instructions for compiling a complete application are provided in the packet. The OWP and instruction packet are used in all ANA competitive discretionary grant programs such as Social and Economic Development Strategies (SEDS), Native American Languages Preservation, Environmental Regulatory Enhancement, etc.

Resondents: State, Local or Tribal Government.

Annual Burden Estimates
Instrument | Number of respondents | Number of responses per respondent | Average burden hours per response | Total burden hours
OWP | 650 | 1 | 28 | 18,200

Additional Information: Copies of the proposed collection may be obtained by writing to The Administration for Children and Families, Office of Information Services, 370 L'Enfant Promenade, SW., Washington, DC 20447, Attn: ACF Reports Clearance Officer.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, 725 17th Street, NW., Washington, DC 20503, Attn: Ms. Wendy Taylor.

Dated: February 25, 2000.
Bob Sargis,
Reports Clearance Officer.

[FR Doc. 00-5029 Filed 3-1-00; 8:45 am]

BILLING CODE 4184-01-M